DEPARTMENT OF DEFENSE

Office of the Secretary

[Transmittal No. 06-57]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated 21 July 1996.

FOR FURTHER INFORMATION CONTACT: Ms. J. Hurd, DSCA/DBO/ADM, (703) 604-6575.

The following is a copy of a letter to the Speaker of the House of Representatives, Transmittal 06-57 with attached transmittal, policy justification, and Sensitivity of Technology.

Dated: September 20, 2006.
C.R. Choate,
Alternate OSD Federal Register Liaison Officer, Department of Defense.

BILLING CODE 5001-06-M

[FR Doc. 06-8291 Filed 9-26-06; 8:45 am]

BILLING CODE 5001-06-C